DEPARTMENT OF DEFENSE

Office of the Secretary

Class Tuition Waiver

AGENCY: Department of Defense Education Activity (DoDEA).

ACTION: Notice.

SUMMARY: The Secretary of Defense is authorized by section 1404(c) of Public Law 95-561, Defense Dependents' Education Act of 1978,” as amended, 20 U.S.C. 923(c) to identify classes of dependents who may enroll in DoD Dependent Schools (DoDDS) if there is space available and to waive tuition for any such classes. Through DoD Directive 1342.13, “Eligibility Requirements for Education of Minor Dependents in Overseas Areas,” dated July 8, 1982, as amended, paragraph 5.3.4, the Secretary has delegated to the Office of the Principal Deputy Under Secretary of Defense for Personnel and Readiness (PDUSD)(P&R) the authority to identify those classes of dependents for whom tuition may be waived.

This notice announces that on June 27, 2003, the PDUSD(P&R) revised the class tuition waiver dated July 11, 2002, to allow an enrolled Partnership for Peace dependent to continue enrollment in Department of Defense Dependent School (DoDDS) on a space-available, tuition-free basis, if his sponsoring nation has received and accepted a NATO invitation by November 30, 2002, and until such time that his sponsoring nation is officially seated by NATO or through School Year (SY) 2004-05, whichever comes first. This revision is only applicable to Partnership for Peace dependents enrolled in DoDDS in School Year 2002-03 pursuant to the July 11, 2002, waiver.

FOR FURTHER INFORMATION CONTACT: Mr. David Labuhn, 4040 North Fairfax Drive, Arlington, VA 22203-1635.

SUPPLEMENTARY INFORMATION: DoD Directive 1342.13 is published at 32 CFR Part 71 and at the DoDEA Web site: http://www.odedodea.edu.

Dated: July 30, 2003.
Patricia L. Toppings,
Alternate OSD Federal Register Liaison Officer, Department of Defense.

[FR Doc. 03-19872 Filed 8-4-03; 8:45 am]

BILLING CODE 5001-08-M